DEPARTMENT OF COMMERCE

National Oceanic and Atmospheric Administration

RIN 0648-XF693

Pacific Fishery Management Council; Public Meeting

AGENCY: National Marine Fisheries Service (NMFS), National Oceanic and Atmospheric Administration (NOAA), Commerce.

ACTION: Notice of public meeting.

SUMMARY: The Pacific Fishery Management Council's (Pacific Council) Coastal Pelagic Species Management Team (CPSMT) will hold a meeting that is open to the public.

DATES: The CPSMT meeting will be held Tuesday, October 3 through Thursday, October 5, 2017. The meeting will begin at 9 a.m. on October 3, and 8:30 a.m. each other day. The meeting will go until 5 p.m. each day or until business for each day has been completed.

ADDRESSES: The meeting will be held in the Krill Conference Room of the NOAA Southwest Fisheries Science Center, 8901 La Jolla Shores Dr., La Jolla, CA 92037-1508.

FOR FURTHER INFORMATION CONTACT: Kerry Griffin, Pacific Council; telephone: (503) 820-2409.

SUPPLEMENTARY INFORMATION: The purpose of the meeting is to discuss several items relevant to coastal pelagic species (CPS) management. These include CPS Fishery Management Plan housekeeping updates, anchovy abundance and reference points, completion of the CPS Stock Assessment and Fishery Evaluation document, future meeting planning, and administrative items. Public comment may be taken at the discretion of the CPSMT Chair.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Dale Sweetnam; email: dale.sweetnam@noaa.gov; phone: (858) 546-7170 at least 10 days prior to the meeting date.

Dated: September 13, 2017.
Tracey L. Thompson,
Acting Deputy Director, Office of Sustainable Fisheries, National Marine Fisheries Service.

[FR Doc. 2017-19746 Filed 9-15-17; 8:45 am]

BILLING CODE 3510-22-P